DEPARTMENT OF TRANSPORTATION

Federal Railroad Administration

Environmental Impact Statement for the Milwaukee, WI to Minneapolis, MN Rail Corridor

AGENCY: Federal Railroad Administration (FRA), Department of Transportation (DOT).

ACTION: Revised notice of intent to prepare an environmental impact statement.

SUMMARY: On December 9, 2010, FRA published a notice of intent to advise the public that a Tier I environmental impact statement (EIS) would be prepared for the Milwaukee, WI to Minneapolis-St. Paul, MN (Milwaukee-Twin Cities) High-Speed Rail Corridor Program. The original project included passenger stations, maintenance facilities, and the construction of a high-speed rail line between Milwaukee and the Twin Cities. Alternatives originally under consideration included taking no action (No Build), as well as several build alternatives along a variety of corridors between Milwaukee and the Twin Cities. However, to prioritize the limited funding available for the EIS, the Minnesota Department of Transportation (MnDOT) now intends to focus the Tier 1 EIS on improvements to existing service using the existing route on the Milwaukee to Twin Cities passenger rail corridor (the Corridor) from Milwaukee Intermodal Station to the Minneapolis Transportation Interchange.

Purpose and Need: The purpose of the current proposed action is to meet future regional travel demand and provide intermodal connectivity to existing and planned transportation systems in Minnesota and Wisconsin. The proposed action offers an opportunity to provide reliable and competitive passenger rail service as an attractive alternative transportation choice between Milwaukee and the Twin Cities by: decreasing travel times, increasing frequency of service, and providing safe and reliable service. The need for the proposed action is based on the limitations and vulnerabilities of available travel modes between Milwaukee and the Twin Cities. Existing transportation modes, including highway, bus, and air travel, have inherent problems including congested highways near the Milwaukee, Madison, and Twin Cities metro areas and airport capacity issues at Minneapolis-St. Paul International Airport and Milwaukee's General Mitchell International Airport. Improved and expanded passenger rail service can provide an alternative mode and/or relief to these congested roadways and airports.

The environmental process will identify improvements to infrastructure that would allow for increased train frequency and reduced travel times for passenger rail service along the existing route on the Corridor. The existing route currently has passenger service; Amtrak's Empire Builder serves the Corridor, and, therefore, provides the best opportunity to implement a phased approach for infrastructure improvements.

FOR FURTHER INFORMATION CONTACT: Mr. Daniel Krom, Director, Passenger Rail Office, Minnesota Department of Transportation (MnDOT), 395 John Ireland Boulevard, MS 480, St. Paul, MN 55155, telephone (651) 366-3193; or Ms. Colleen Vaughn, Office of Railroad Policy and Development, Federal Railroad Administration (FRA), 1200 New Jersey Avenue SE., MS-20/W38-303, Washington, DC 20590, telephone (202) 493-6096.

SUPPLEMENTARY INFORMATION: The Vision of the Minnesota Comprehensive Statewide Freight and Passenger Rail Plan is to develop a robust intrastate and interstate intercity passenger rail system which results in improved travel options, costs and speeds for Minnesota and interstate travelers. One of the priority program elements identified in the Statewide Rail Plan is to advance corridors incrementally and simultaneously with MnDOT's support, sequencing corridors and improvements depending on financing, right-of-way (ROW) acquisition and agreements with freight railroads.

MnDOT is cognizant of hurdles faced in completely funding the vision for the Corridor in a single funding cycle in favor of partial or incremental funding and building of a passenger rail route in phases allowing for incremental increases in frequency as well as “phased” reduction in travel time. The existing passenger rail service route between Milwaukee and the Twin Cities provides the best opportunity to implement a phased approach for infrastructure improvements due to its potential to incrementally implement a reduction in travel time and increase in frequency. This phased approach recognizes the constraints associated with funding requirements for major infrastructure improvements at the state and federal levels and is consistent with the Minnesota Statewide Rail Plan.

Currently, MnDOT and the Wisconsin Department of Transportation (WisDOT) are coordinating with Amtrak to determine the feasibility of increasing the frequency of the current service from one round-trip per day to two with the introduction of the second Empire Builder train between the Twin Cities and Chicago via Milwaukee.

Environmental Review Process

The EIS will be developed in accordance with Council on Environmental Quality (CEQ) regulations (40 CFR part 1500 et seq.) implementing the National Environmental Policy Act (NEPA), and FRA's Procedures for Considering Environmental Impacts (64 FR 28545; May 26, 1999). FRA and MnDOT will use a tiered process, as provided for in 40 CFR 1508.28 and in accordance with FRA guidance, in the completion of the environmental review of the Program. The Tier 1 EIS will address broad corridor-level issues. Subsequent Tier 2 reviews would analyze, at a greater level of detail, narrower site-specific projects based on the decisions made in the Tier 1 EIS.

The Tier 1 EIS will result in a NEPA document with the appropriate level of detail for corridor-level decisions and will address broad overall issues of concern, including but not limited to:

• Confirming the purpose and need for the proposed action.

• Identifying the infrastructure and equipment investment requirements for the reasonable and feasible alternatives.

• Identifying the operational changes required for the reasonable and feasible alternatives.

• Describing the environmental impacts associated with proposed changes in passenger rail train frequency, speed, and on-time performance.

• Characterizing the environmental consequences of the reasonable and feasible alternatives.

• Establishing the timing and sequencing of independent actions to maintain a state of good repair and to implement the proposed action.

• Selecting component projects for Tier 2 NEPA documentation.

Additional information on the Project can be obtained by visiting the Project Web site at http://www.dot.state.mn.us/passengerrail/mwrri/phase7.html or sending an email to MWRRIPhase7@state.mn.us.

Issued in Washington, DC, on May 17, 2013.
Corey Hill,
Director, Passenger and Freight Programs, Federal Railroad Administration.

[FR Doc. 2013-12435 Filed 5-23-13; 8:45 am]

BILLING CODE 4910-06-P